Title 3—

The President

Proclamation 10239 of August 26, 2021

Women's Equality Day, 2021

By the President of the United States of America

A Proclamation

Today, we celebrate Women's Equality Day, a reminder not only of the progress women have won through the years, but of the important work that remains to be done. One hundred and one years ago, the ratification of the 19th Amendment moved our Nation one essential step closer to fulfilling its foundational promise—establishing at long last that no American's right to vote could be denied or abridged on the basis of gender. As we reflect on the decades-long effort to win the fight for universal suffrage, we also remember the women of color who helped lead the movement to ratify the 19th Amendment, whose own rights would still be denied for years to come despite their hard-earned victory. We celebrate their extraordinary courage and resolve, and rededicate ourselves to the work we still have ahead of us to protect voting rights across our country.

When the 19th Amendment was ratified, millions of women across the country could finally make their voices heard at the ballot box. But even with its ratification, millions were denied those rights by law or by practice through poll taxes, literacy tests, and campaigns of violence and terror that targeted voters of color. It took another 45 years before the Voting Rights Act secured the voting rights of millions of Americans of color, and an additional 10 years before voting protections would reflect the many languages Americans speak.

Through these measures and others, our country has taken major strides to strengthen voting rights and expand access to make it easier for Americans to exercise their sacred right to vote. These victories have been especially vital for women, who often face increased caregiving demands and take on a disproportionate amount of low-wage and inflexible work—making it harder to take time off to vote in-person or wait out longer lines at the polls. Women are also disproportionately impacted by voter ID laws—especially married women who change their names, or those whose IDs do not accurately reflect their gender.

Efforts to improve voting access have paid off; in 2020, we witnessed the greatest number of votes ever cast in American history. And one barrier that had stood for more than two centuries was finally dismantled with the inauguration of America's first woman Vice President, Kamala Harris.

But the struggle to ensure that every American is able to exercise their right to vote continues, especially for women of color. In the years prior to the 2020 election and in the months since, we have seen a wave of shameless attacks on voting—burdening a constitutional right with obstacles that overwhelmingly impact voters of color, low-income communities, and people with disabilities. These tactics are nothing new. But they are an affront to our most cherished values and rights as a Nation.

As I have said before, some things in America should be simple and straightforward. Perhaps the most important—the most fundamental—is the right to vote and to vote freely. With it, anything is possible. Without it, nothing is.

My Administration is committed to bearing out the promise of the suffragists, who understood that for women to attain true equality in our country, they must have an equal place at the ballot box. As the Vice President has said, the status of women is the status of democracy. This is true abroad, too, where we are committed to strengthening women's political participation and leadership around the world.

In fulfillment of my Administration's commitment to equality for all, we are focused not only on the sacred right to vote, but on making sure that all Americans have the opportunity to fully participate in our society. It is long past time we pass the Equal Rights Amendment, to enshrine the principle of gender equality in our Constitution, because no one's rights should be denied on account of sex. On Women's Equality Day, we recognize the unique challenges and barriers women face, and the rights that need defending and strengthening. These rights include a woman's constitutional right to reproductive freedom and access to health care, regardless of zip code or income—and the right of every woman and girl to live free from violence, whether online, in the home, at school, or in the workplace. To ensure that women are treated fairly in our economy and in the workforce, we are also committed to fighting for pay equity, combating discrimination in the workplace, and passing family-friendly policies that help women and all of us manage caregiving and career responsibilities.

Today, as we celebrate Women's Equality Day, we recognize the pioneers whose fight for suffrage paved the way for future generations of leaders—and we recognize our duty to continue that fight to ensure that our daughters can enjoy the same rights and opportunities as our sons. Let us honor the efforts of trailblazers and barrier-breakers with meaningful action to promote gender equality and make exercising the right to vote more equitable and accessible for all.

NOW, THEREFORE, I, JOSEPH R. BIDEN JR., President of the United States of America, by virtue of the authority vested in me by the Constitution and the laws of the United States, do hereby proclaim August 26, 2021, as Women's Equality Day. I call upon the people of the United States to celebrate and continue to build on our country's progress towards gender equality, and to defend and strengthen the right to vote.

IN WITNESS WHEREOF, I have hereunto set my hand this twenty-sixth day of August, in the year of our Lord two thousand twenty-one, and of the Independence of the United States of America the two hundred and forty-sixth.

[FR Doc. 2021-18921

Filed 8-30-21; 8:45 am]

Billing code 3295-F1-P